DEPARTMENT OF ENERGY

Federal Energy Regulatory Commission

[Docket No. CP01-45-000]

Colorado Interstate Gas Company; Notice of Intent To Prepare an Environmental Assessment for the Proposed Valley Line Expansion Project, Request for Comments on Environmental Issues, and Notice of Public Scoping Meetings and Route Inspection

February 6, 2001.

The staff of the Federal Energy Regulatory Commission (FERC or Commission) will prepare an environmental assessment (EA) that will discuss the environmental impacts of the Valley Line Expansion Project, involving construction and operation of facilities by Colorado Interstate Gas Company (CIG) along the eastern slope of the Rocky Mountain Front Range in Colorado.¹ These facilities would consist of about 119 miles of 20- and 24-inch-diameter pipeline in two sections and 4,450 horsepower (hp) of compression to be added at the recently-proposed Fort Lupton Compressor Station.² This EA will be used by the Commission in its decision-making process to determine whether the project is in the public convenience and necessity.

¹ CIG's application was filed with the Commission under Section 7(c) of the Natural Gas Act and Subpart A of Part 157 of the Commission's regulations.

² CIG's Front Range Expansion proposal, filed with the Commission in Docket No. CP01-1-000 on October 2, 2000, included construction of the new 6,675-hp Fort Lupton Compressor Station.

If you are a landowner receiving this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice CIG provided to landowners. This fact sheet addresses a number of typically asked questions, including the use of eminent domain and how to participate in the Commission's proceedings. It is available for viewing on the FERC Internet website, http://www.ferc.fed.us.

Summary of the Proposed Project

CIG wants to expand the capacity of its existing natural gas transmissions system along the eastern slope of the Rocky Mountain Front Range in Colorado. The primary purpose of the expansion is to meet additional natural gas fuel requirements for electric power generation. Secondarily, this proposal would provide a limited amount of additional capacity to local natural gas distribution systems for meeting increased demand along the portion of CIG's Valley Line between its Watkins Compressor Station and El Paso County south of Colorado Springs. The expansion would enable CIG to transport an additional 278.8 million cubic feet of natural gas per day ­(MMcf/d) on the portion of its system between the Cheyenne Hub in northern Weld County and its Watkins Compressor Station, and an additional 344.4 ­MMcf/d on the portion of the Valley Line which the new pipeline would parallel.

To support the expansion, CIG seeks authority to construct and operate:

• About 35.1 miles of 24-inch-diameter looping pipeline between CIG's existing Ault Meter Station and the Fort Lupton Compressor Station, all in Weld County, Colorado;

• Two new natural gas-fired reciprocating engine-driven compressors, totaling 4,450 horsepower at CIG's proposed Fort Lupton Compressor Station in Weld County, Colorado;

• About 84 miles of 20-inch-diameter pipeline which would generally parallel CIG's existing Valley Line between it's Watkins Compressor Station in southern Adams County east of Denver and a location adjacent to the existing Nixon Power Plant in El Paso County south of Colorado Springs; and

• Appurtenant and ancillary facilities, including cathodic protection systems (rectifier/groundbed facilities and aboveground test stations); pig launchers and/or receivers; ³ mainline block valve assemblies; and a side tap and valve assembly. Additionally, equipment related to the new compressors at the Fort Lupton Compressor Station would include a gas cooler; jacket water coolers; inlet, exhaust and vent silencers; a compressor building; miscellaneous pipe valves and fittings; and station yard lighting.⁴

³ A pipeline “pig” is a device used to internally clean or inspect the pipeline. A pig launcher/receiver is a surface facility where pigs are inserted or retrieved from the pipeline.

⁴ CIG proposes to install these appurtenant and ancillary facilities under section 2.55(a) of the Commission's regulations.

The general location of the project facilities is shown in appendix 1.⁵

⁵ The appendices referenced in this notice are not being printed in the Federal Register. Copies are available on the Commission's website at the “RIMS” link or from the Commission's Public Reference and Files Maintenance Branch, 888 First Street, NE., Washington, DC 20426, or call (202) 208-1371. For instructions on connecting to RIMS refer to the last page of this notice. Copies of the appendices were sent to all those receiving this notice in the mail.

Land Requirements for Construction

Construction would disturb about 1,303 acres of land, consisting of that associated with pipeline construction (1,125 acres), material/equipment staging areas (37 acres), extra work areas (80 acres), and rail sidings/pipe storage yards (61 acres). Following construction, about 722 acres would be maintained as new pipeline right-of-way. The remaining acreage would be restored and allowed to revert to its former use. Disturbance would also occur within the 11-acre Fort Lupton Compressor Station during installation of the two new compressors. However, this area is already dedicated to natural gas facilities, and no expansion of the station is proposed.

The EA Process

The National Environmental Policy Act (NEPA) requires the Commission to take into account the environmental impacts that could result from an action whenever it considers the issuance of a Certificate of Public Convenience and Necessity. NEPA also requires us ⁶ to discover and address concerns the public may have about proposals. We call this “scoping.” The main goal of the scoping process is to focus the analysis in the EA on the important environmental issues. By this Notice of Intent, the Commission requests public comments on the scope of the issues it will address in the EA. All comments received are considered during the preparation of the EA. State and local government representatives are encouraged to notify their constituents of this proposed action and encourage them to comment on their areas of concern.

⁶ “We,” “us,” and “our” refer to the environmental staff of the Office of Energy Projects (OEP).

The EA will discuss impacts that could occur as a result of the construction and operation of the proposed project under these general headings:

• geology and soils

• water resources

• vegetation and wildlife

• threatened and endangered species

• land use

• air quality and noise

• cultural resources

• public safety

We will also evaluate possible alternatives to the proposed project or portions of the project, and make recommendations on how to lessen or avoid impacts on the various resource areas.

Our independent analysis of the issues will be in the EA. Depending on the comments received during the scoping process, the EA may be published and mailed to Federal, state, and local agencies, public interest groups, interested individuals, affected landowners, newspapers, libraries, and the Commission's official service list for this proceeding. A comment period will be allotted for review if the EA is published. We will consider all comments on the EA before we make our recommendations to the Commission.

To ensure your comments are considered, please carefully follow the instructions in the public participation section beginning on page 5.

Currently Identified Environmental Issues

We have already identified the following issue that we think deserves attention, based on a preliminary review of the proposed facilities and the environmental information provided by CIG. This preliminary issue list may be changed based on your comments and our analysis.

• Routing of the pipeline through developed areas in west Greeley, Colorado.

• Limiting impact on woody riparian and forested areas.

• Six federally listed threatened or endangered species may occur in the project area, as well as four other species that are either proposed or candidates for federal listing.

Public Participation

You can make a difference by providing us with your specific comments or concerns about the project. By becoming a commentor, your concerns will be addressed in the EA and considered by the Commission. You should focus on the potential environmental effects of the proposal, alternatives to the proposal (especially alternative routes in areas of environmental resource conflict), and measures to avoid or lessen environmental impact. The more specific your comments, the more useful they will be. Please carefully follow these instructions to ensure that your comments are received in time and properly recorded:

• Send an original and two copies of your letter to: David P. Boergers, Secretary, Federal Energy Regulatory Commission, 888 First Street, NE., Room 1A, Washington, DC 20426.

• Label one copy of the comments for the attention of Gas 1, PJ-11.1.

• Reference Docket No. CP01-45-000.

• Mail your comments so that they will be received in Washington, DC on or before March 8, 2001.

Comments may also be filed electronically via the Internet in lieu of paper. See 18 CFR 385.2001(a)(1)(iii) and the instructions on the Commission's web site at http://www.ferc.fed.us/efi/doorbell.htm under the link to the User's Guide. Before you can file comments you will need to create an account which can be created by clicking on “Login to File” and then “New User Account.”

If you do not want to send comments at this time but still want to remain on our mailing list, please return the Information Request (appendix 3). If you do not return the Information Request (appendix 3), your name will be taken off the mailing list.

In addition to asking for written comments, we invite you to attend any of the public scoping meetings that we will conduct in the project area. The purpose of the scoping meetings is to provide state and local agencies, interested groups, landowners, and the general public with an opportunity to learn more about the project and another chance to present us with environmental issues or concerns they believe should be addressed in the EA. CIG representatives will be present at the meetings to describe the proposed project, both in general and for the specific area where each meeting is held, and to answer project-related questions.

The locations and times for these meetings are listed below. Priority will be given to commenters who represent groups, and a transcript of each meeing will be made so that your comments will be accurately recorded.

Date and time | Location
Tuesday, February 27, 2001 | Pikes Peak Community College, Rampart Campus—Room W101, 11195 Highway 83, Colorado Springs, Colorado.
Wednesday, February 28, 2001 | Pioneer Elementary School Cafeteria, 10881 Riva Ridge Drive, Parker, Colorado.
Thursday, March 1, 2001 | Aims Community College, Corporate Education Center—Room 129A, 5590 11th Street, Greeley, Colorado.

Route Inspection

On February 27-March 2, 2001, we will also be conducting an inspection of the proposed routes and locations of facilities associated with CIG's proposal. This inspection may include both aerial and ground components. Anyone interested in participating in the inspection activities may contact the FERC's Office of External Affairs (identified at the end of this notice) for more details and must provide their own transportation.

Becoming an Intervenor

In addition to involvement in the EA scoping process, you may want to become an official party to the proceeding known as an “intervenor”. Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor, you must file a motion to intervene according to Rule 214 of the Commission's Rules of Practice and Procedure (18 CFR 385.214) (see appendix 2). Only intervenors have the right to seek rehearing of the Commission's decision.

Affected landowners and parties with environmental concerns may be granted intervenor status upon showing good cause by stating that they have a clear and direct interest in this proceeding which would not be adequately represented by any other parties. You do not need intervenor status to have your environmental comments considered.

Additional information about the proposed project is available from the Commission's Office of External Affairs at (202) 208-1088 or on the FERC website (www.ferc.fed.us) using the “RIMS” link to information in this docket number. Click on the “RIMS” link, select “Docket #” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket #” from the CIPS menu, and follow the instructions. For assistance with access to CIPS, the CIPS helpline can be reached at (202) 208-2474.

David P. Boergers,
Secretary

[FR Doc. 01-3435 Filed 2-9-01; 8:45 am]

BILLING CODE 6717-01-M